DEPARTMENT OF HOMELAND SECURITY

Transportation Security Administration

Revision of Agency Information Collection Activity Under OMB Review: TSA End of Course Level 1 Evaluation—Instructor-Led Classroom Training

AGENCY: Transportation Security Administration, DHS.

ACTION: 30-Day notice.

SUMMARY: This notice announces that the Transportation Security Administration (TSA) has forwarded the Information Collection Request (ICR), Office of Management and Budget (OMB) control number 1652-0041, abstracted below to OMB for review and approval of a revision of the currently approved collection under the Paperwork Reduction Act (PRA). The ICR describes the nature of the information collection and its expected burden. The collection involves the submission of ratings and written comments about the quality of training instruction from TSA students who successfully complete TSA instructor-led classroom training. TSA students include TSA personnel, as well as State and local civilian personnel, who attend the Explosives Detection Canine Handler Course, Passenger Screening Canine Handler Course, Bridge Course, Canine Technical Operations Course, or the Office of Security Operations Canine (OSO) Management Course at the Canine Training Center (CTC).

DATES: Send your comments by June 29, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on January 26, 2018, 83 FR 4502.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: TSA End of Course Level 1 Evaluation—Instructor-Led Classroom Training.

Type of Request: Revision of a currently approved collection.

OMB Control Number: 1652-0041.

Forms(s): TSA Form 1904A.

Affected Public: Canine Handlers.

Abstract: TSA's CTC delivers the Explosives Detection Canine Handler Course, Passenger Screening Canine Handler Course, Bridge Course, Canine Technical Operations Course, and the OSO Management Course ¹ to TSA personnel, as well as to State and local civilian personnel. State and local civilian personnel (primarily, law enforcement agencies that are responsible for the security at airports throughout the United States) participate under agency-specific cooperative agreements with TSA's National Explosives Detection Canine Team Program. This information collection captures ratings and written comments and feedback from students about the quality of the referenced training.

¹ Because CTC is the sole DHS source for all TSA-trained canines and handlers, the TSA has partnered with local law enforcement agencies (Legacy) under a reimbursement agreement to train students and canines and pair the canine teams through annual evaluations. To ensure standardization of all TSA student training, the civilian students attend the same courses as TSA students. This may include pairing civilian students with an explosives-only canine in the CTC Explosives Detection Canine Handler Course; pairing civilian students with trained canines in the Passenger Screening Canine Handler Course; or enrolling students previously certified by the TSA to attend the Bridge Course to enhance their skillset. Doing so ensures all students with the TSA's National Explosives Detection Canine Team Program receive the same course materials to successfully operate in the operational environments associated with TSA (airports, mass transit, and water vessels with the transportation triad). Lastly, CTC will be developing a course specifically for Legacy civilian supervisors and trainers that incorporates much of the content and materials in the Canine Technical Operations Course and Canine Management Course.

TSA is revising the information collection to standardize all Level 1 course evaluations across TSA. A Level 1 evaluation is a measure of the degree to which participants react to a learning activity. In addition, TSA is removing from the form all personally identifiable information (PII) as well as course code and location, as these elements are not necessary to the collection. Finally, TSA is revising the name of the collection from “TSA OTWE Canine Training and Evaluation Branch End of Course Level 1 Evaluation” to “TSA End of Course Level 1 Evaluation—Instructor-Led Classroom Training.”

Number of Respondents: 79.

Estimated Annual Burden Hours: An estimated 39.5 hours annually.

Dated: May 23, 2018.
Christina A. Walsh,
TSA Paperwork Reduction Act Officer, Office of Information Technology.

[FR Doc. 2018-11508 Filed 5-29-18; 8:45 am]

BILLING CODE 9110-05-P